DEPARTMENT OF ENERGY

Federal Energy Regulatory Commission

[ Project Nos. P-13235-002 and P-13355-001]

Middlebury Electric, LLC; Notice of Intent To File License Application, Filing of Pre-Application Document, and Approving Use of the Traditional Licensing Process

a. Type of Filings: Notice of Intent To File License Application and Request to Use the Traditional Licensing Process.

b. Project Nos.: P-13235-002 and P-13355-001.

c. Dates Filed: May 5, 2011, and June 20, 2011, respectively.

d. Submitted By: Middlebury Electric, LLC.

e. Name of Projects: Middlebury Upper Hydroelectric Project and Middlebury Upper East Bank Hydroelectric Project, respectively.

f. Location: On Otter Creek, in Addison County, Vermont. No federal lands would be occupied by the project works or located within the proposed project boundaries.

g. Filed Pursuant to: 18 CFR 5.3 of the Commission's regulations.

h. Potential Applicant Contact: Alders Holm, Middlebury Electric, LLC, #5 Frog Hollow Alley, Middlebury, VT 05753; (802) 388-7037.

i. FERC Contact: John Ramer at (202) 502-8969; or email at john.ramer@ferc.gov.

j. Middlebury Electric, LLC filed its requests to use the Traditional Licensing Process on May 5 and June 20, 2011, for Middlebury Upper Project, P-13235-002 and Middlebury Upper East Bank Project, P-13355-001, respectively. Middlebury Electric, LLC provided public notice of its requests on May 2, 2011, and August 18, 2011, respectively. In a letter dated October 5, 2011, the Director of the Division of Hydropower Licensing approved Middlebury Electric, LLC's requests to use the Traditional Licensing Process.

k. With this notice, we are initiating informal consultation with: (a) the U.S. Fish and Wildlife Service under section 7 of the Endangered Species Act and the joint agency regulations thereunder at 50 CFR part 402; (b) NOAA Fisheries under section 305(b) of the Magnuson-Stevens Fishery Conservation and Management Act and implementing regulations at 50 CFR 600.920; and (c) the Vermont State Historic Preservation Officer, as required by section 106, National Historical Preservation Act, and the implementing regulations of the Advisory Council on Historic Preservation at 36 CFR 800.2.

l. Middlebury Electric, LLC filed Pre-Application Documents (PADs; including proposed process plans and schedules) with the Commission, pursuant to 18 CFR 5.6 of the Commission's regulations.

m. Copies of the PADs are available for review at the Commission in the Public Reference Room or may be viewed on the Commission's Web site (http://www.ferc.gov), using the “eLibrary” link. For either project, enter the docket number, excluding the last three digits in the docket number field to access the document. For assistance, contact FERC Online Support at FERCONlineSupport@ferc.gov or toll free at 1-(866) 208-3676, or for TTY, (202) 502-8659. Copies are also available for inspection and reproduction at the address in paragraph h.

n. Register online at http://www.ferc.gov/docs-filing/esubscription.asp to be notified via email of new filings and issuances related to these or other pending projects. For assistance, contact FERC Online Support.

Dated: January 5, 2012.
Kimberly D. Bose,
Secretary.

[FR Doc. 2012-424 Filed 1-11-12; 8:45 am]

BILLING CODE 6717-01-P